DEPARTMENT OF AGRICULTURE

Forest Service

Pacific Northwest National Scenic Trail Advisory Council

AGENCY: Forest Service, USDA.

ACTION: Notice of meeting.

SUMMARY: The Pacific Northwest National Scenic Trail Advisory Council (Council) will meet in Port Townsend, Washington. The Council is authorized under Section 5(d) of the National Trails System Act of 1968 (Act) and operates in compliance with the Federal Advisory Committee Act (FACA). Additional information concerning the Council, including the meeting summary/minutes, can be found by visiting the Council's Web site at: http://www.fs.usda.gov/main/pnt/working-together/advisory-committees.

DATES: The meeting will be held on the following dates and times:

• Wednesday, May 4, 2016 from 8:00 a.m. to 5:00 p.m. PDT.

• Thursday, May 5, 2016 from 8:00 a.m. to 5:00 p.m. PDT.

• Friday, May 6, 2016 from 8:00 a.m. to 5:00 p.m. PDT (optional field trip).

All meetings are subject to cancellation. For updated status of meeting prior to attendance, please contact the person listed under FOR FURTHER INFORMATION CONTACT.

ADDRESSES: The meeting will be held at the Northwest Maritime Center, 431 Water Street, Port Townsend, WA 98368. Written comments may be submitted as described under SUPPLEMENTARY INFORMATION. All comments, including names and addresses, when provided, are placed in the record and available for public inspection and copying. The public may inspect comments received at the Pacific Northwest Regional Office of the United States Forest Service: 1220 SW 3rd Avenue, Portland, OR 97204. Please call ahead at 503-808-2468 to facilitate entry into the building.

FOR FURTHER INFORMATION CONTACT: Matt McGrath, Pacific Northwest National Scenic Trail Program Manager, by phone at 425-583-9304, or by email at mtmcgrath@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to provide:

1. Review significant resources and current trail uses along the PNNST;

2. Provide recommendations on the Nature and Purposes of the PNNST, including trail uses; and

3. Discuss potential interpretive themes and strategies for youth and community engagement on the PNNST.

The meeting is open to the public. The agenda will include time for people to make oral statements of three minutes or less. Individuals wishing to make an oral statement should submit a request in writing by May 19, 2016, to be scheduled on the agenda. Anyone who would like to bring related matters to the attention of the Council may file written statements with the Council's staff before or after the meeting. Written comments and time requests for oral comments must be sent to Matt McGrath, Pacific Northwest National Scenic Trail Program Manager, 2930 Wetmore Avenue, Suite 3A, Everett, Washington 98201, or by email to mtmcgrath@fs.fed.us.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: March 23, 2016.
Dianne C. Guidry,
Deputy Regional Forester.

[FR Doc. 2016-07137 Filed 3-29-16; 8:45 am]

BILLING CODE 3411-15-P